DEPARTMENT OF AGRICULTURE

Federal Crop Insurance Corporation

7 CFR Parts 407 and 457

[Docket ID FCIC-24-0005]

RIN 0563-AC86

Flax Revenue and Expanded Unit Options for Crop Insurance

AGENCY: Federal Crop Insurance Corporation, USDA.

ACTION: Final rule with request for comments; reopening of comment period.

SUMMARY: The Federal Crop Insurance Corporation (FCIC) is reopening the comment period for 30 days to allow the public additional time to provide comments on our regulation that allowed revenue coverage for flax under the Small Grain Crop Insurance Provisions, combined written agreement deadlines in the Dry Bean Crop Insurance Provisions to match other insurance policies, expanded the availability of enterprise and optional units for some specialty and perennial crops, and made clarifications and corrections to the Area Risk Protection Insurance, Basic Provisions; Common Crop Insurance Policy, Basic Provisions; and several Crop Provisions published on November 27, 2024 and effective on November 30, 2024.

DATES: The comment period for the final rule with request for comments, published on November 27, 2024, (89 FR 93463-93470), is reopened. We will consider comments that we receive by March 12, 2025.

ADDRESSES: We invite you to submit comments on this rule. You may submit comments by going through the Federal eRulemaking Portal as follows:

• Federal eRulemaking Portal: Go to https://www.regulations.gov and search for Docket ID FCIC-24-0005. Follow the instructions for submitting comments.

All comments will be posted without change and will be publicly available on www.regulations.gov.

FOR FURTHER INFORMATION CONTACT: Chandra Place; telephone (816) 926-3875; or email chandra.place@usda.gov. Persons with disabilities who require alternative means for communication should contact the USDA Target Center at (202) 720-2600 or (844) 433-2774 (toll-free nationwide).

SUPPLEMENTARY INFORMATION: We are reopening the comment period for the final rule with request for comment that was published on November 27, 2024, (89 FR 93463-93470).

The comment period closed on January 27, 2025.

In the spirit of the Presidential Memorandum, titled Regulatory Freeze Pending Review, signed on January 20, 2025, we are providing an additional 30 days to allow the public to comment on this rule.

Heather Manzano,
Acting Manager, Federal Crop Insurance Corporation.

[FR Doc. 2025-02308 Filed 2-7-25; 8:45 am]

BILLING CODE 3410-08-P